DEPARTMENT OF THE INTERIOR

Bureau of Land Management

[CO-100-04-1990-00]

Temporary Travel Restriction Order, Moffat County, CO

AGENCY: Bureau of Land Management, Interior.

ACTION: Notice.

SUMMARY: This order limits certain public lands to foot and horse back use in the areas surrounding the Union Cellular communications facility in Browns Park, Moffat County, Colorado. This order modifies the current Off Highway Vehicle (OHV) classification of “open” in this area. The restriction includes an emergency limitation that prohibits the use of any motorized or non-motorized wheeled vehicles within the identified area.

EFFECTIVE DATE: June 7, 2004.

ADDRESSES: Maps of the designated area will be available at the Little Snake Field Office, 455 Emerson Street, Craig, Colorado.

FOR FURTHER INFORMATION CONTACT: John E. Husband, Field Manager, Little Snake Field Office, 455 Emerson Street, Craig, Colorado 81625; Telephone (970) 826-5000.

SUPPLEMENTARY INFORMATION: This order is issued under the authority of 43 CFR 8364.1 and 43 CFR 8341.2(a) as a temporary measure while the off-highway vehicle (OHV) management portion of the Little Snake Field Office Resource Management Plan is reviewed and modified as needed to address public issues, concerns and needs, as well as resource uses, development, impacts, and protection.

This order affects public lands in Moffat County, Colorado thus described:

(1) Public Lands within:

T.9N., R.101W., Sections 18 and 19;

T.9N., R102W., Sections 13, 14, 23, and 24;

Approximately: 582 acres of Public Lands

This restriction order shall be effective May 1, 2004, and shall remain in effect until rescinded or modified by the Authorized Officer.

Current OHV use designation for public land in the area is “open” and was established in the Little Snake Resource Area Management Plan, Record of Decision (ROD) 1989. Increased OHV use in this area and on a prominent mesa top overlook have exposed a significant cultural resource and a Bureau of Land Management Special Status Species, Duchesne Milkvetch (Astragalus duchensensis), Colorado Rare Plant Field Guide, Colorado Natural Heritage Program, 1997, to unacceptable impacts.

The modification of the current OHV use designation is necessary to adequately protect natural resources and cultural resources on public land. This modification is a temporary travel restriction that prohibits the use of motorized and non motorized vehicles in the designated area. These issues will be thoroughly addressed during Land Use Planning for this area to start in 2004.

The designated area affected by this order will be posted with appropriate regulatory signs. Persons who are exempt from the restriction contained in this notice include:

1. Any Federal, State, or local Officers engaged in fire, emergency, and law enforcement activities.

2. Persons or agencies holding a special use permit or right-of-way for access to maintain and operate authorized facilities within the restricted area, for purposes related to access for maintenance and operation of said authorized facilities, and provided such motorized use is limited to the routes specifically identified in the special use permit or right-of-way.

3. Grazing permittees holding a valid grazing permit for the restricted area will contact the Authorized Officer for emergency grazing situations with the exact location of the emergency. The Authorized Officer will issue verbal instructions as needed to avoid the areas of concern within the designated area. All verbal instructions will be followed by the grazing permittee. Sick or injured animal(s) and the recovery of the animal(s) will be completed with as little resource damage as possible. Further, grazing permittees will notify the Authorized Officer, within 10 working days, of such actions in a letter describing the location and reason for the action. BLM mitigative measures related to the plant community and/or cultural resource will be developed to address any damages caused by the emergency situation.

Penalities: Violations of this restriction order are punishable by fines as specified in 43 CFR 8360.0-7 not to exceed $1,000 and/or imprisonment not to exceed 12 months. Further, the Archaeological Resource Protection Act of 1979 and amendments (16 U.S.C. 470) at 470ee and 470ff provide for prohibited acts, Criminal and Civil penalties, respectively.

Authority: 43 CFR 8364.1 and 43 CFR 8341.2(a).

Dated: April 16, 2004.
John E. Husband,
Field Manager, Little Snake Field Office.

[FR Doc. 04-12755 Filed 6-4-04; 8:45 am]

BILLING CODE 4310-JB-P